DEPARTMENT OF HOMELAND SECURITY

United States Visitor and Immigrant Status Indicator Technology (US-VISIT) Program; Notice of Availability of a Final Programmatic Environmental Assessment (PEA) and a Finding of No Significant Impact (FONSI) on the US-VISIT Plan for Potential Changes to Immigration and Border Management Processes

AGENCY: US-VISIT, DHS.

ACTION: Notice of availability.

SUMMARY: A Final Programmatic Environmental Assessment (PEA) and Finding of No Significant Impact (FONSI) for the United States Visitor and Immigrant Status Indicator Technology (US-VISIT) program are available to the public for electronic download. The Final PEA examines the potential environmental impacts of four strategic approaches to enhance immigration and border management processes and addresses the substantive comments received on the Draft PEA during the public comment period. These four approaches are aimed at improving information available to determine the identity and immigration status of individuals traveling to and from the United States. The Final PEA resulted in a FONSI that selected the proposed action, or Hybrid Alternative, as the approach to enhance the immigration and border management enterprise. The Final PEA and FONSI are made available to the public in accordance with the National Environmental Policy Act of 1969 (NEPA) and the Council on Environmental Quality (CEQ) regulations for implementing NEPA.

DATES: The Final PEA and FONSI will be available to the public on April 17, 2006.

ADDRESSES: Copies of the Final PEA and FONSI may be obtained by download through the Internet at http://www.dhs.gov/us-visit.

FOR FURTHER INFORMATION CONTACT: Lisa Mahoney, US-VISIT Environmental Program Manager, at (202) 298-5245, Monday-Friday, 8 a.m.—5 p.m. EDT.

SUPPLEMENTARY INFORMATION: US-VISIT published a Notice of Availability of a Draft Programmatic Environmental Assessment (PEA) on the US-VISIT Plan for Potential Changes to Immigration and Border Management Processes in the Federal Register (71 FR 8602, February 17, 2006). The Notice briefly discussed four strategic approaches analyzed in the Draft PEA, informed the public on how to obtain a copy of the Draft PEA, requested comments from the public on the Draft PEA during the public commenting period, and informed the public on the location and time of public meetings in seven locations in the United States during the public comment period. The comment period ended on March 18, 2006. Thirty-two (32) comments were received and considered by US-VISIT.

The proposed action, or Hybrid Alternative, has been selected as the approach by which enhancements will be made to immigration and border management processes. This approach was selected after careful review of the environmental assessment and consideration of input received from the public and other federal and state agencies during the public comment period. The Hybrid Alternative was chosen because it provides the most opportunity for the entities responsible for immigration and border management to incorporate and balance the most useful components of the virtual and physical border alternatives to achieve security, facilitation, individual privacy, and immigration system integrity goals. A review of the relative impacts showed that no alternative would result in a significant impact and that the Hybrid Alternative ranked second in terms of environmental preference. As warranted, tiered environmental analyses for specific initiatives at the land border ports of entry resulting from selection of the Hybrid Alternative will be conducted and these tiered analyses will be made available to the public. A collection or “toolbox” of strategies and information for monitoring, mitigation, and environmental stewardship will also be developed to be used in implementing the Hybrid Alternative.

Juan Reyes,
Director, Office of Safety and Environmental Programs, Department of Homeland Security.

[FR Doc. E6-5971 Filed 4-20-06; 8:45 am]

BILLING CODE 4410-10-P